DEPARTMENT OF HOUSING AND URBAN DEVELOPMENT

[Docket No. FR-7090-N-11]

60-Day Notice of Proposed Information Collection: Evaluation of the Older Adult Home Modification Grant Program; OMB Control No.: 2528-0335

AGENCY: Office of the Assistant Secretary for Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 14, 2025.

ADDRESSES: Interested persons are invited to submit comments regarding this proposal. Written comments and recommendations for the proposed information collection can be submitted within 60 days of publication of this notice to www.regulations.gov. Interested persons are also invited to submit comments regarding this proposal by name and/or OMB Control Number to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410-5000; email Anna.P.Guido@hud.gov; telephone (202) 402-5535 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Evaluation of the Older Adult Home Modification Grant Program.

OMB Approval Number: 2528-0335.

Type of Request: Extension of currently approved collection.

Form Number: N/A.

Description of the need for the information and proposed use: Congress authorized HUD to make grants to experienced non-profit organizations, States, local governments, or public housing agencies for safety and functional home modification repairs to meet the needs of low-income elderly homeowners to enable them to remain in their primary residence. To evaluate the effectiveness of the grants, HUD is: (1) evaluating the grantees' implementation of the grants and (2) evaluating the impact of the home modification on the recipient. HUD is seeking an extension of the currently approved collection.

Members of the affected public: Office of Lead Hazard Control and Healthy Homes Grantees and Recipients for home modifications.

Respondent's Obligation: Mandatory for grantees. Voluntary for clients.

Legal Authority: The data collection is conducted under title 12, United States Code, section. 1701z and section 3507 of the Paperwork Reduction Act of 1995, 44 U.S.C. 35, as amended.

Table 1. provides an estimate of the annual burden to respondents.

Table 1—Estimated Annual Burden to Grantee Respondents
Information collection | Total number of respondents | Frequency of response | Responses per annum | Burden hours per response | Annual burden hours | Annual hourly cost per response | Annual cost
Client Eligibility Documentation Form ᵃ | 2,235 | 1 | 745 | 0.08 | 62 | $37.03 | $2,299
Lost-to-Project Form ᵇ | 1,164 | 1 | 388 | 0.08 | 32 | 37.03 | 1,197
OAHM Program Documentation of Work Completed Form ᶜ | 1,341 | 1 | 447 | 0.58 | 259 | 37.03 | 9,600
Grantee Process Evaluation Online Survey ᵈ | 75 | 1 | 25 | 4 | 100 | 37.03 | 3,703
Grantee Site Visit Interview Guide ᵉ | 12 | 2 | 4 | 3 | 24 | 37.03 | 889
Total Annual |  |  | 1,607 | 7.75 | 478 |  | 17,688
Total over Three Years |  |  |  |  | 1,433 |  | 53,065
ᵃ 1,675 clients are expected to receive home modifications. Grantees will need to screen approximately 2,233 applicants and complete evaluation Client Eligibility Documentation forms for each of these applicants to reach their unit goal.
ᵇ Of the 2,235 OAHMP applicants, 25% (558) are expected to be determined ineligible for program services, another 20% (335) of eligible clients are expected to decline to participate in the evaluation, and another 25% (268) are expected to be lost to project follow up by the end of the evaluation period. Grantees are required to complete the lost to project form for all applicants and clients lost to the project (1,164).
ᶜ Grantees will complete the Home Modification Documentation only with clients who agree to participate in the evaluation. We estimate 25% of the eligible applicants (1676) will refuse to participate, leading to a total of 1,341 clients for which grantees will complete the form.
ᵈ One program manager from each of up to 25 grantees will complete the Grantee Process Evaluation Online Survey each year of the three year period of performance (3X).
ᵉ The Contractor will administer the Grantee Site Visit Interview Guide with approximately two grantee representatives at up to 12 site visits.

Table 2—Estimated Time and Costs to Client Respondents
Information collection | Total number of respondents | Frequency of response | Responses per annum | Burden hours per response | Annual burden hours | Annual hourly cost per response | Annual cost
OAHM Client Program Questionnaire Baseline ᵃ | 1,677 | 1 | 559 | 0.17 | 93 | $11.24 | $1,047
Home Hazard Checklist Baseline ᵃ | 1,677 | 1 | 559 | 0.42 | 233 | 11.24 | 2,618
OAHM Program Evaluation Informed Consent ᵇ | 1,341 | 1 | 447 | 0.25 | 112 | 11.24 | 1,256
OAHM Client Impact Evaluation Interview Baseline ᵇ | 1,341 | 1 | 447 | 0.42 | 186 | 11.24 | 2,093
Home Hazard Checklist Post-Modification ᶜ | 1,074 | 1 | 358 | 0.42 | 149 | 11.24 | 1,677
OAHM Client Program Questionnaire Post-Modification ᶜ | 1,074 | 1 | 358 | 0.17 | 60 | 11.24 | 671
OAHM Client Impact Evaluation Interview Post-Modification ᶜ | 1,074 | 1 | 358 | 0.42 | 149 | 11.24 | 1,677
Script to Schedule Client Process Evaluation Interview ᵈ | 336 | 1 | 112 | 0.08 | 9 | 11.24 | 105
Client Process Evaluation Interview ᵈ | 202 | 1 | 67 | 0.50 | 34 | 11.24 | 378
Total Annual |  |  | 3,265 | 2.83 | 986 |  | 11,522
Total Over Three Years |  |  |  |  | 2,959 |  | 34,566
ᵃ 1,677 applicants are expected to be eligible to receive home modifications. Program Questionnaire and Home Hazard baseline data will be collected for all of these clients.
ᵇ Assuming 20% (335) of eligible clients do not consent to participate in the Evaluation, 1,341 clients are expected to complete the baseline Client Impact Evaluation.
ᶜ Of the clients that agree to participate in the Evaluation, it is assumed 20% (268) will be lost to project follow up during the course of the Evaluation, resulting in post-modification data being collected from 1,074 clients.
ᵈ Assuming 40% of the clients contacted decline to participate in the process survey (134), we will contact 335 clients to ensure up to 200 of the clients who receive home modifications participate in the Client Process Evaluation interviews.

Total Annual Costs: $29,210.

Total Costs over 3 Years: $87,631.

Total Client Respondents: 1,677.

Hours/Client Respondent: 2.83.

Total Grantee Respondents: 25.

Hours/Grantee Respondent: 7.75.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond, including through the use of appropriate automated collection techniques or other forms of information technology, e.g., permitting electronic submission of responses. HUD encourages interested parties to submit comment in response to these questions.

C. Authority

Section 3507 of the Paperwork Reduction Act of 1995, 44 U.S.C. chapter 35.

Todd M. Richardson,
General Deputy Assistant Secretary for Policy Development and Research.

[FR Doc. 2025-00437 Filed 1-10-25; 8:45 am]

BILLING CODE 4210-67-P